DEPARTMENT OF DEFENSE

Office of the Secretary of Defense

Privacy Act of 1974; System of Records

AGENCY: Defense Finance and Accounting Service, DoD.

ACTION: Notice of deletion of system of records.

SUMMARY: The Defense Finance and Accounting Service proposes to delete system of records from its inventory of record systems subject to the Privacy Act of 1974 (5 U.S.C. 552a), as amended.

DATES: The action will be effective on April 27, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: March 21, 2007.
L.M. Bynum,
Alternate OSD Federal Register Liaison Officer, Department of Defense.

Deletion:

T5010

System name:

DFAS Quarterly Pay Newsletter E-mail System (November 18, 2004, 69 FR 67548).

Reason:

This system is covered by T7336, MyPay System, published on June 16, 2006 with the Federal Register number of 71 FR 34898.

With the MyPay System being an Internet (WEB) based system it has eliminated the requirement for a separate quarterly newsletter e-mail system. The MyPay system will directly inform the DFAS customer of current pay information and updates, unless the customer opts out from receiving the quarterly newsletter.

[FR Doc. 07-1495 Filed 3-27-07; 8:45 am]

BILLING CODE 5001-06-M